DEPARTMENT OF COMMERCE

Bureau of Economic Analysis

Proposal To Collect Information on the Initial Report on a Foreign Person's Direct or Indirect Acquisition, Establishment, or Purchase of the Operating Assets of a U.S. Business Enterprise

ACTION: Proposed collection; comment request.

SUMMARY: The Department of Commerce, as part of its continuing effort to reduce paperwork and respondent burden, invites the general public and other Federal agencies to comment on proposed and/or continuing information collections, as required by the Paperwork Reduction Act of 1995, Pub. L. 104-13 (44 U.S.C. 3506(c)(2)(A)).

DATES: Written comments must be submitted on or before July 11, 2003.

ADDRESSES: Direct all written comments to Diana Hynek, Departmental Paperwork Clearance Officer, Office of the Chief Information Officer, Department of Commerce, Room 6625, 14th and Constitution Avenue, NW., Washington, DC 20230, or via the Internet at dHynek@doc.gov, ((202) 482-0266).

FOR FURTHER INFORMATION CONTACT: Requests for additional information or copies of the information collection instruments and instructions should be directed to: David H. Galler, U.S. Department of Commerce, Bureau of Economic Analysis, BE-49(NI), Washington, DC 20230, or via the Internet at David.Galler@bea.gov, ((202) 606-9835).

SUPPLEMENTARY INFORMATION:

I. Abstract

The Initial Report on a Foreign Person's Direct or Indirect Acquisition, Establishment, or Purchase of the Operating Assets, of a U.S. Business Enterprise, Including Real Estate (Form BE-13) and the Report by a U.S. Person Who Assists or Intervenes in the Acquisition of a U.S. Business Enterprise by, or Who Enters Into a Joint Venture with, a Foreign Person (Form BE-14) obtain initial data on new foreign direct investment in the United States. The surveys collect identification information on the U.S. business being established or acquired and on the new foreign owner, information on the cost of the investment and source of funding, and limited financial and operating data for the newly established or acquired entity. The data are needed to measure the amount of new foreign direct investment in the United States, assess its impact on the U.S. economy, and, based upon this assessment, make informed policy decisions regarding foreign direct investment in the United States.

The BE-13 survey is being revised, to add an item on the number of U.S. affiliates included in the consolidated report that will assist in verifying the accuracy of the reported data. No changes are proposed for Form BE-14.

II. Method of Collection

Form BE-13 must be filed by every U.S. business with over $3 million of assets or cost of investment, or 200 or more acres of U.S. land, that is acquired to the extent of 10 percent or more, or is established, by a foreign investor. It is a one-time report that must be filed within 45 days of the acquisition or establishment. A BE-13 Supplement C—Exemption Claim—must be filed for transactions that do not meet either of the reporting thresholds. Form BE-14 is filed by a person who assists in an investment transaction, such as a real estate broker or attorney, or who enters into a U.S. joint venture with a foreign person. Its purpose is to provide BEA with the name and address of the newly established or acquired U.S. company, so that a BE-13 form can be mailed to it for completion. A BE-14 is not filed, however, if a U.S. person files a BE-13 relating to the establishment or acquisition of the U.S. business enterprise by a foreign person.

III. Data

OMB Number: 0608-0035.

Form Numbers: BE-13/BE-14

Type of Review: Regular submission.

Affected Public: Businesses or other for-profit organizations.

Estimated Number of Respondents: 600 annually.

Estimated Time Per Response: 1½ hours.

Estimated Total Annual Burden: 900 hours.

Estimated Total Annual Cost: $27,000 (based on an estimated reporting burden of 900 hours and an estimated hourly cost of $30).

IV. Request for Comments

Comments are invited on: (a) Whether the proposed collection of information is necessary for the proper performance of the functions of the agency, including whether the information has practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 6, 2003.
Madeleine Clayton,
Management Analyst, Office of the Chief Information Officer.

[FR Doc. 03-11688 Filed 5-9-03; 8:45 am]

BILLING CODE 3510-06-P